OFFICE OF PERSONNEL MANAGEMENT

5 CFR Part 531

RIN 3206-AL27

Locality Pay Areas

AGENCY: Office of Personnel Management.

ACTION: Final rule.

SUMMARY: On behalf of the President's Pay Agent, the Office of Personnel Management is issuing final regulations on the locality pay program for General Schedule and certain other employees. Originally published on June 22, 2007 as an interim rule with a request for comments, the regulations added Whatcom County, WA, to the Seattle locality pay area effective with the first pay period that began on or after July 23, 2007, removed the reference to a January effective date for changes made by the President's Pay Agent in locality pay area boundaries, made a number of changes in the official names of locality pay areas to correspond to revised names of Metropolitan Statistical Areas and Combined Statistical Areas as established by the Office of Management and Budget, and provided notice and documentation of a number of changes in locality pay area boundaries that resulted from revisions in Metropolitan and Combined Statistical Areas. We received no comments on the interim rule and adopt the final rule without change.

DATES: Effective on February 8, 2008 we are adopting as a final rule the interim rule published at 72 FR 34361 on June 22, 2007.

Applicability Date: The regulations were applicable on the first day of the first pay period that began on or after July 23, 2007.

FOR FURTHER INFORMATION CONTACT: Allan Hearne, (202) 606-2838; FAX: (202) 606-4264; e-mail: pay-performance-policy@opm.gov.

SUPPLEMENTARY INFORMATION: Section 5304 of title 5, United States Code, and 5 CFR part 531, subpart F, authorize locality pay for General Schedule (GS) and certain other employees with official worksites in the 48 contiguous United States and the District of Columbia. Section 5304(f) of title 5, United States Code, authorizes the President's Pay Agent (the Secretary of Labor, the Director of the Office of Management and Budget (OMB), and the Director of the Office of Personnel Management (OPM)) to determine locality pay areas.

On June 22, 2007 (72 FR 34361), OPM published an interim rule to add Whatcom County, WA, to the Seattle locality pay area, remove the reference to a January effective date for changes made by the President's Pay Agent in locality pay area boundaries, and make a number of changes in the official names of locality pay areas to correspond to revised names of Metropolitan Statistical Areas (MSAs) and Combined Statistical Areas (CSAs) as established by the Office of Management and Budget. The regulations also provided notice and documentation of a number of changes in locality pay area boundaries that resulted from the revisions in MSAs and CSAs. We received no comments on the interim rule and OPM is adopting the rule as final without changes.

E.O. 12866, Regulatory Review

The Office of Management and Budget has reviewed this rule in accordance with E.O. 12866.

Regulatory Flexibility Act

I certify that these regulations would not have a significant economic impact on a substantial number of small entities because they would apply only to Federal agencies and employees.

List of Subjects in 5 CFR Part 531

Government employees, Law enforcement officers, Wages.

Office of Personnel Management.
Linda M. Springer,
Director.

Accordingly, the interim rule amending 5 CFR part 531 published at 72 FR 34361 on June 22, 2007, is adopted as a final rule without change.

[FR Doc. E8-125 Filed 1-8-08; 8:45 am]

BILLING CODE 6325-39-P